DEPARTMENT OF ENERGY

Federal Energy Regulatory Commission

[Docket No. RP98-52-040]

Williams Gas Pipelines Central, Inc.; Notice of Settlement Agreement

March 1, 2001.

Take notice that on February 23, 2001, Williams Gas Pipelines Central, Inc., Ash Grove Cement, Atmos Energy Corporation, Farmland Industries, Inc., FMC Corporation, Heartland Cement, Kansas Gas Service Company, a Division of ONEOK, Inc., the Kansas Corporation Commission (KCC), Kansas Industrial Energy Supply Company, Lone Star Industries, Inc., Amoco Production Company, Pioneer Natural Resources USA, Inc., Mobil Oil Corporation, OXY USA Inc., and Union Pacific Resources Company, collectively Sponsoring Parties, filed a Settlement Agreement (Settlement) under Rule 602 of the Commission's Rules of Practice and Procedure in the captioned docket. A copy of the Settlement is available for public inspection in the Commission's Public Reference Room and may be viewed on the web at http://www.ferc.fed.us/online/rims.htm (call 202-208-2222 for assistance).

Sponoring Parties state the purpose of the voluntary Settlement is to facilitate the partial resolution of complicated claims and mitigate administrative burdens relating to refunds asserted to be due as a result of the collection of Kansas ad valorem tax reimbursements in excess of maximum lawful prices under the Natural Gas Policy Act. Sponsoring Parties also assert the Settlement, together with a Stipulated Settlement to be filed with the KCC, will resolve any issues between the Settling Parties but will not impact the claims of other parties. In addition, Sponsoring Parties state the Settlement will resolve all claims except those related to refunds due to Missouri jurisdictional customers and is supported by all active parties in Kansas, Oklahoma, Texas, Nebraska and Colorado.

Comments on the Settlement Agreement are due by March 15, 2001; reply comments are due on March 22, 2001. Comments and protests may be filed electronically via the internet in lieu of paper. See, 18 CFR 385.2001(a)(1)(iii) and the instructions on the Commission's web site at http://www.ferc.fed.us/efi/doorbell.htm.

David P. Boergers,
Secretary.

[FR Doc. 01-5531 Filed 3-6-01; 8:45 am]

BILLING CODE 6717-01-M